DEPARTMENT OF EDUCATION

[Docket No.: ED-2012-ICCD-0059]

Agency Information Collection Activities; Comment Request; Mathematics and Science Partnerships Program: Annual Performance Report

AGENCY: Office of Elementary and Secondary Education (OESE), Department of Education (ED).

ACTION: Notice.

SUMMARY: In accordance with the Paperwork Reduction Act of 1995 (44 U.S.C. chapter 3501 et seq.), ED is proposing a revision of an existing information collection.

DATES: Interested persons are invited to submit comments on or before January 25, 2013.

ADDRESSES: Comments submitted in response to this notice should be submitted electronically through the Federal eRulemaking Portal at http://www.regulations.gov by selecting Docket ID number ED-2012-ICCD-0059 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E117, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Mathematics and Science Partnerships Program: Annual Performance Report.

OMB Control Number: 1810-0669.

Type of Review: Revision of an existing information collection.

Respondents/Affected Public: State, Local, or Tribal Governments.

Total Estimated Number of Annual Responses: 600.

Total Estimated Number of Annual Burden Hours: 7,800.

Abstract: The Mathematics and Science Partnerships (MSP) program is a formula grant program to the States in which states make competitive awards to projects. The authorizing legislation, Title II, Part B, Section 2202 (f) of the Elementary and Secondary Education Act of 1965 as amended by the No Child Left Behind Act of 2001, requires all locally funded projects to report annually to the Secretary documenting progress towards goals and objectives. The Annual Performance Report (APR) is an online reporting tool. Annual reporting requirements include impact on increasing teacher learning and student achievement; standard descriptive information on the MSP projects; the professional development participants; the professional development models, content, and processes; the evaluation plans; and lessons learned. By structuring the reporting so that all MSPs are required to provide standardized data, the program office is better able to examine outcomes across funded partnerships. The primary objective of the proposed revision is to reduce burden on reporting entities while ensuring that needed data continue to be collected. Proposed revisions include removing items that duplicate information, condensing sections of the APR that require substantial project burden to complete, and clarifying reporting instructions to improve quality of responses.

Dated: November 20, 2012.
Darrin A. King,
Director, Information Collection Clearance Division, Privacy, Information and Records Management Services, Office of Management.

[FR Doc. 2012-28619 Filed 11-23-12; 8:45 am]

BILLING CODE 4000-01-P